DEPARTMENT OF TRANSPORTATION

Surface Transportation Board

[STB Ex Parte No. 519 (Sub-No. 2)]

Notice of National Grain Car Council Matters

AGENCY: Surface Transportation Board.

ACTION: Notice of renewal and reestablishment of National Grain Car Council and notice of meeting.

SUMMARY: Notice is hereby given of the renewal and reestablishment of the National Grain Car Council (NGCC). Pursuant to section 10(a)(2) of the Federal Advisory Committee Act, Public Law No. 92-463, as amended (5 U.S.C., App. 2), notice also is hereby given of a meeting of the NGCC.

DATES: The meeting will be held on May 4, 2001, beginning at 10 a.m., EDT.

ADDRESSES: The meeting will be held in The Brick Room (First Floor) at 1925 K Street, NW., Washington, DC 20423-0001.

FOR FURTHER INFORMATION CONTACT: Eric S. Davis, (202) 565-1510. (TDD for the hearing impaired: 1-800-877-8339.)

SUPPLEMENTARY INFORMATION: The NGCC arose from a proceeding instituted by the Surface Transportation Board's (Board) predecessor agency, the Interstate Commerce Commission (ICC), in National Grain Car Supply—Conference of Interested Parties, Ex Parte No. 519. The NGCC was formed as a working group to facilitate private-sector solutions and recommendations to the ICC (and now the Board) on matters affecting grain transportation.

The purpose of this meeting is to continue discussions of private-sector solutions to problems related to the availability of railroad cars for distribution and transportation of grain. In particular, rail carrier members will report on their preparedness to transport the Fall grain harvest.

The meeting, which is open to the public, will be conducted pursuant to the NGCC's charter and Board procedures. Further communications about this meeting may be announced through the Board's website at http://www.stb.dot.gov.

This action will not significantly affect either the quality of the human environment or the conservation of energy resources.

Decided: April 24, 2001.
By the Board, Linda J. Morgan, Chairman.
Vernon A. Williams,
Secretary.

[FR Doc. 01-10613 Filed 4-26-01; 8:45 am]

BILLING CODE 4915-00-P